DEPARTMENT OF HOMELAND SECURITY

Science and Technology Directorate

Notice of Public Meeting of the Project 25 Compliance Assessment Program Governing Board

AGENCY: Science and Technology Directorate, DHS.

ACTION: Notice of Public Meeting.

SUMMARY: The Department of Homeland Security's (DHS) Office for Interoperability and Compatibility (OIC) will hold a public meeting of its Project 25 (P25) Compliance Assessment Program (CAP) Governing Board (GB). The P25 CAP GB is composed of public sector officials who represent the collective interest of organizations that procure P25 equipment. The purpose of the meeting is to review and approve the proposed Compliance Assessment Bulletin(s).

If time permits, the P25 CAP GB will take oral public comments during the last ten minutes of the call. If you would like to provide oral comments (two minutes maximum), please indicate so when registering for the conference call. The P25 CAP GB also welcomes ongoing written feedback on the program. To provide your written comments anytime, please visit http://www.safecomprogram.gov/SAFECOM/currentprojects/project25cap/.

DHS OIC will post details of the meeting, including the agenda, ten business days in advance of the meeting at http://www.safecomprogram.gov.

DATES: The meeting will take place on Thursday, August 14, 2008, from 2 p.m. to 3 p.m. (EST).

ADDRESSES: The session will take place via conference call. To listen, please send an e-mail to david.keller@touchstone.com or call 202-449-7142 by August 13 for access information.

FOR FURTHER INFORMATION CONTACT: Luke Klein-Berndt, Department of Homeland Security, Science and Technology Directorate, Office for Interoperability and Compatibility, Washington Navy Yard, 245 Murray Lane, SW., Building #410, Washington, DC 20528. Telephone: (202) 254-5332. E-mail: Luke.Klein-Berndt@dhs.gov.

SUPPLEMENTARY INFORMATION: Emergency responders—emergency medical services, fire personnel, and law enforcement officers—need to seamlessly exchange communications across disciplines and jurisdictions to successfully respond to day-to-day incidents and large-scale emergencies. P25 focuses on developing standards that allow radios and other components to interoperate, regardless of the manufacturer. In turn, these standards enable emergency responders to exchange critical communications with other disciplines and jurisdictions.

An initial goal of P25 is to specify formal standards for interfaces between the components of a land mobile radio (LMR) system; LMR systems are commonly used by emergency responders in portable handheld and mobile vehicle-mounted devices. Although formal standards are being developed, no process is currently in place to confirm that equipment advertised as P25-compliant meets all aspects of P25 standards.

To address discrepancies between P25 standards and industry equipment, Congress passed legislation calling for the creation of the P25 CAP. The P25 CAP is a partnership of the DHS Command, Control and Interoperability Division; the Department of Commerce's National Institute of Standards and Technology; industry; and the emergency response community.

The P25 CAP works to establish a process for ensuring that equipment complies with P25 standards and can interoperate across manufacturers. By providing manufacturers with a method to test their equipment for compliance with P25 standards, the P25 CAP helps emergency response officials make informed purchasing decisions. The program's initial focus is on the Common Air Interface, which allows for over-the-air compatibility between mobile and portable radios and tower equipment.

For more information on the program, please review OIC's Charter for the Project 25 Compliance Assessment Program, which is available at http://www.safecomprogram.gov.

Dated: July 14, 2008.
Luke Klein-Berndt,
P25 CAP Program Manager.

[FR Doc. E8-17272 Filed 7-25-08; 8:45 am]

BILLING CODE 4410-10-P